DEPARTMENT OF HEALTH AND HUMAN SERVICES

Centers for Disease Control and Prevention

Prospective Grant of Exclusive License: Insecticide-Impregnated Bednet

AGENCY: Technology Transfer Office, Centers for Disease Control and Prevention (CDC), Department of Health and Human Services.

ACTION: Notice.

SUMMARY: This is a notice in accordance with 35 U.S.C. 209(e) and 37 CFR 404.7(a)(1)(i) that the Centers for Disease Control and Prevention (CDC), Technology Transfer Office, Department of Health and Human Services (DHHS), is contemplating the grant of a limited field of use, exclusive license in India to practice the inventions embodied in the patent referred to below to Molecular Diagnostic Laboratory, having a place of business in Lucknow, India. The patent rights in these inventions have been assigned to the government of the United States of America. The patent(s) to be licensed are:

US 6,896,892 B2 entitled “Insecticide-Impregnated Fabric and Method of Production,” issue date 05.24.2005. CDC Technology ID No. I-008-99.

Status: Issued.

Issue Date: 05.24.2005

The prospective exclusive license will be royalty-bearing and will comply with the terms and conditions of 35 U.S.C. 209 and 37 CFR 404.7.

Technology: This technology provides a new insecticide-impregnated fabric and method of production for bednets.

SUPPLEMENTARY INFORMATION: In accordance with 35 U.S.C. 209(e) and 37 CFR 404.7(a)(1)(i), CDC is providing public notice of its intention to grant an exclusive license. CDC will accept written comments concerning this notice for 30 days. Applications for a license filed in response to this notice will be treated as objections to the grant of the contemplated license. Only written comments and/or applications for a license which are received by CDC within thirty days of this notice will be considered. Comments and objections submitted in response to this notice will not be made available for public inspection, and, to the extent permitted by law, will not be released under the Freedom of Information Act, 5 U.S.C. 552.

ADDRESSES: Requests for a copy of this patent, inquiries, comments, and other materials relating to the contemplated license should be directed to Suzanne Seavello Shope, J.D., Technology Licensing and Marketing Specialist, Technology Transfer Office, Centers for Disease Control and Prevention (CDC), 4770 Buford Highway, Mailstop K-79, Atlanta, GA 30341, telephone: (770) 488-8613; facsimile: (770) 488-8615.

Dated: August 31, 2006.
James D. Seligman,
Chief Information Officer, Centers for Disease Control and Prevention.

[FR Doc. E6-14871 Filed 9-7-06; 8:45 am]

BILLING CODE 4163-18-P